DEPARTMENT OF HEALTH AND HUMAN SERVICES

Meeting of the National Preparedness and Response Science Board

AGENCY: Department of Health and Human Services, Office of the Secretary.

ACTION: Notice.

SUMMARY: As stipulated by the Federal Advisory Committee Act, the Department of Health and Human Services (HHS) is hereby giving notice that the National Preparedness and Response Science Board (NPRSB) will be holding a public teleconference.

DATES: The NPRSB will hold a public meeting on May 26, 2016, from 1:00 p.m. to 2:00 p.m. EST. The agenda is subject to change as priorities dictate.

ADDRESSES: Individuals who wish to participate should send an email to NPRSB@HHS.GOV with “NPRSB Registration” in the subject line. The meeting will occur by teleconference. To attend via teleconference and for further instructions, please visit the NPRSB Web site at WWW.PHE.GOV/NPRSB.

FOR FURTHER INFORMATION CONTACT: Please submit an inquiry via the NPRSB Contact Form located at www.phe.gov/NBSBComments.

SUPPLEMENTARY INFORMATION: Pursuant to section 319M of the Public Health Service Act (42 U.S.C. 247d-7f) and section 222 of the Public Health Service Act (42 U.S.C. 217a), HHS established the NPRSB. The Board shall provide expert advice and guidance to the Secretary on scientific, technical, and other matters of special interest to HHS regarding current and future chemical, biological, nuclear, and radiological agents, whether naturally occurring, accidental, or deliberate. The NPRSB may also provide advice and guidance to the Secretary and/or the Assistant Secretary for Preparedness and Response (ASPR) on other matters related to public health emergency preparedness and response.

Background: This public meeting via teleconference will be dedicated to the NPRSB's deliberation and vote on the task letter received from the ASPR. Subsequent agenda topics will be added as priorities dictate. Any additional agenda topics will be available on the NPRSB May 26, 2016, meeting Web page, available at WWW.PHE.GOV/NPRSB.

Availability of Materials: The meeting agenda and materials will be posted prior to the meeting on the May 26th meeting Web page at WWW.PHE.GOV/NPRSB.

Procedures for Providing Public Input: Members of the public are invited to attend by teleconference via a toll-free call-in phone number which is available on the NPRSB Web site at WWW.PHE.GOV/NPRSB. All members of the public are encouraged to provide written comment to the NPRSB. All written comments must be received prior to May 26, 2016, and should be sent by email to NPRSB@HHS.GOV with “NPRSB Public Comment” as the subject line. Public comments received by close of business one week prior to each teleconference will be distributed to the NPRSB in advance.

Dated: April 28, 2016.
Nicole Lurie,
Assistant Secretary for Preparedness and Response.

[FR Doc. 2016-10430 Filed 5-3-16; 8:45 am]

BILLING CODE 4150-28-P